ENVIRONMENTAL PROTECTION AGENCY

40 CFR Part 52

[EPA-R10-OAR-2019-0640, FRL-10004-29-Region 10]

Air Plan Approval; OR; Emission Standard Definition Rule Revision

AGENCY: Environmental Protection Agency (EPA).

ACTION: Proposed rule.

SUMMARY: The Environmental Protection Agency (EPA) proposes to approve a revision to the Oregon State Implementation Plan (SIP) submitted on September 5, 2019. The submission revises the SIP to incorporate by reference a more recent update to the emission standards for specific industries by defining the specific Code of Federal Regulations (CFR) edition referenced throughout the revised rule. The EPA is also proposing to make non-substantive revisions to the SIP to correct typographical errors. The EPA reviewed the submitted revision and proposes to find it consistent with Clean Air Act (CAA) requirements.

DATES: Comments must be received on or before March 9, 2020.

ADDRESSES: Submit your comments, identified by Docket ID No. EPA-R10-OAR-2019-0640, at https://www.regulations.gov. Follow the online instructions for submitting comments. Once submitted, comments cannot be edited or removed from Regulations.gov. The EPA may publish any comment received to its public docket. Do not electronically submit any information you consider to be Confidential Business Information (CBI) or other information the disclosure of which is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

FOR FURTHER INFORMATION CONTACT: Christi Duboiski, EPA Region 10, 1200 Sixth Avenue—Suite 155, Seattle, WA 98101, at (360) 753-9081, or duboiski.christi@epa.gov.

SUPPLEMENTARY INFORMATION: Throughout this document, wherever “we,” “us,” or “our” is used, it means the EPA.

I. Background

Each state has a State Implementation Plan (SIP) containing the control measures and strategies used to attain and maintain the national ambient air quality standards (NAAQS) established by the Environmental Protection Agency (EPA) for the criteria pollutants (carbon monoxide, lead, nitrogen dioxide, ozone, particulate matter, sulfur dioxide). The SIP contains such elements as air pollution control regulations, emission inventories, attainment demonstrations, and enforcement mechanisms. Section 110 of the Clean Air Act (CAA) requires each state to periodically revise its SIP. As a result, the SIP is a living compilation of regulatory and non-regulatory elements that are updated to address Federal requirements and changing air quality issues in the state.

Air quality regulations for the State of Oregon (“Oregon” or “the State”) are found in Chapter 340 of the Oregon Administrative Rules (OAR) and are generally implemented by the Oregon Department of Environmental Quality (ODEQ). On July 18, 2019, the State adopted new and revised air quality regulations that became effective July 19, 2019. Most of the adopted regulations implement Oregon's air quality regulations concerning municipal solid waste landfills established in OAR Chapter 340, Division 236. One of the regulations adopted in the State rulemaking package (OAR 340-236-0010 Definitions) made changes to the Federally approved rules in the Oregon SIP.

II. Evaluation of Submission

A. Division 236: Emission Standards for Specific Industries

Division 236 contains emission standards for specific industries and the definitions that apply to this division. On September 5, 2019, Oregon submitted to the EPA OAR 340-236-0010 Definitions as a rule amendment related to the adopted new landfill emission rules. Specifically OAR 340-236-0010(1) was added to clarify the definitions used in Division 236 by defining the specific Code of Federal Regulations (CFR) edition (July 1, 2018) referenced throughout the Division. This definition incorporates the specific CFR containing the EPA's most recent changes to the NSPS for municipal solid waste landfills and the emissions guidelines for existing landfills codified in 40 CFR part 60 (August 29, 2016, 81 FR 59276 and 81 FR 59332). In addition, we note the change renumbers the definitions section of Division 236.

The remainder of the State's revision has limited impact on the Federally-approved Oregon SIP because the revision primarily relates to municipal solid waste landfill emissions guidelines, which are not part of the Federally-approved SIP under CAA section 110 and were not submitted to the EPA for approval. Rather, the municipal solid waste landfill guidelines are related to section 111(d) of the CAA. For more details, please see the September 5, 2019 submission in the docket for this action.

We reviewed the submitted change to OAR 340-236-0010 Definitions and propose to approve and incorporate it by reference into the Oregon SIP.

III. Corrections to Typographical Errors

The EPA is proposing to correct minor typographical errors to provisions previously approved into the Oregon SIP. Specifically, we are correcting several undesignated center headings and a table heading in 40 CFR 52.1970(c) to accurately reflect the title of the State provisions. In addition, we are correcting entry OAR 340-256-0330 in section 52.1970(c) to reflect the correct EPA approval date. We are also correcting a footnote in section 52.1970(c) table 4, approved in our October 31, 2019 action, to cite to the correct table (84 FR 58327). We note in section 52.1970(e), table 2, entry 011-0010, the state effective date and approval date are corrected; as well as the EPA approval date for the Motor Vehicle Inspection and Maintenance entry in table 5, section 5; and the EPA approval date for the entry of the PM10 Attainment Plan, La Grande.

IV. Proposed Action

The EPA proposes to approve, and incorporate by reference into the Oregon SIP, the submitted change to the following section of the OAR Chapter 340, Division 236 Emission Standards for Specific Industries, Section 0010 Definitions, State effective July 19, 2019. The EPA also proposes to approve the corrected typographical errors as a “housekeeping” exercise and proposes that these changes be accurately reflected in 40 CFR part 52, subpart MM for the State of Oregon.

V. Incorporation by Reference

In this document, the EPA is proposing to include in a final rule, regulatory text that includes incorporation by reference. In accordance with requirements of 1 CFR 51.5, the EPA is proposing to incorporate by reference the provisions described in Section IV of this preamble. The EPA has made, and will continue to make, these documents generally available through www.regulations.gov and in hard copy at the EPA Region X Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided they meet the criteria of the CAA. Accordingly, this proposed action merely approves State law as meeting Federal requirements and does not impose additional requirements beyond those imposed by State law. For that reason, this proposed action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because it does not involve technical standards; and

• Does not provide the EPA with the discretionary authority to address, as appropriate, disproportionate human health or environmental effects, using practicable and legally permissible methods, under Executive Order 12898 (59 FR 7629, February 16, 1994).

The proposed SIP would not be approved to apply on any Indian reservation land or in any other area where the EPA or an Indian tribe has demonstrated that a tribe has jurisdiction. In those areas of Indian country, the proposed rule does not have tribal implications as specified by Executive Order 13175 (65 FR 67249, November 9, 2000), nor will it impose substantial direct costs on tribal governments or preempt tribal law.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: January 6, 2020.
Chris Hladick,
Regional Administrator, Region 10.

[FR Doc. 2020-00779 Filed 2-6-20; 8:45 am]

BILLING CODE 6560-50-P